FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 28, 2014.

A. Federal Reserve Bank of Chicago (Colette A. Fried, Assistant Vice President) 230 South LaSalle Street, Chicago, Illinois 60690-1414:

1. Joe D. Van Tol Revocable Trust, Joe D. Van Tol, as Trustee, individually, and in conjunction with the Van Tol Family, which consists of Joe D. Van Tol Revocable Trust; Todd J. Van Tol, Joe E. Van Tol, all of Rock Valley, Iowa; David J. Van Tol, Boulder, Colorado; and Ryan J. Van Tol, Harrisburg, South Dakota; to retain voting shares of Peoples Bancorp, and thereby indirectly retain voting shares of Peoples Bank, both in Rock Valley, Iowa.

2. The Kooima Family, which consists of Myron Kooima, Inwood, Iowa; Vernon Kooima, Doon, Iowa; and Dale Kooima, Rock Valley, Iowa; to retain voting shares of Peoples Bancorp, and thereby indirectly retain voting shares of Peoples Bank, both in Rock Valley, Iowa.

Board of Governors of the Federal Reserve System, April 8, 2014.
Michael J. Lewandowski,
Associate Secretary of the Board.

[FR Doc. 2014-08163 Filed 4-10-14; 8:45 am]

BILLING CODE 6210-01-P